DEPARTMENT OF HEALTH AND HUMAN SERVICES

Centers for Disease Control and Prevention

Solicitation of Nominations for Appointment to CDC's Advisory Committee to the Director (ACD) Health Equity Workgroup (HEW)

ACTION: Notice.

SUMMARY: The Centers for Disease Control and Prevention (CDC), within the Department of Health and Human Services (HHS), is seeking nominations for membership on the Advisory Committee to the Director (ACD) Health Equity Workgroup (HEW). The HEW will consist of approximately 15 members who are experts in fields associated with health equity; public health science and practice; public health policy development, analysis, and implementation.

DATES: Nominations for membership on the HEW workgroup must be received no later than March 17, 2022. Late nominations will not be considered for membership.

ADDRESSES: All nominations (cover letters and curriculum vitae) should be emailed to ACDirector@cdc.gov with the subject line: “Nomination for CDC ACD HEW Workgroup.”

FOR FURTHER INFORMATION CONTACT: Kerry Caudwell, MPA, Centers for Disease Control and Prevention, Office of the Chief of Staff, 1600 Clifton Road NE, MS H21-10, Atlanta, Georgia 30329-4027, Telephone: (404) 639-7000; Email Address: ACDirector@cdc.gov.

SUPPLEMENTARY INFORMATION: Background: The purpose of the ACD, CDC is to advise the Secretary, HHS, and the Director, CDC, on policy and broad strategies that will enable CDC to fulfill its mission of protecting health through health promotion, prevention, and preparedness. The ACD, CDC consists of up to 15 non-federal members, including the Chair, knowledgeable in areas pertinent to the CDC mission, such as health policy, public health, global health, preparedness, preventive medicine, the faith-based and community-based sector, and allied fields.

Purpose: The establishment and formation of the HEW is to provide input to the ACD, CDC on agency-wide activities related to the scope and implementation of CDC's CORE (an acronym for C-cultivate comprehensive health equity science, O-optimize interventions, R-reinforce and expand robust partnerships, and E-enhance capacity and workforce diversity and inclusion) strategy around health equity. The HEW membership will be comprised of approximately 15 members. It will be chaired by two current ACD, CDC Special Government Employees. HEW co-chairs will present their findings, observations, and work products at one or more ACD, CDC meetings for discussion, deliberation, and decisions (final recommendations to CDC).

Nomination Criteria: HEW members will serve terms ranging from six months to one year and be required to attend HEW meetings approximately 1-2 times per month (virtually or in-person), and contribute time in between meetings for research, consultation, discussion, and writing assignments.

Nominations are being sought for individuals who have the expertise and qualifications necessary to contribute to the accomplishments of the committee's/workgroup's objectives. Nominees will be selected based on expertise in the fields of health equity; public health science and practice; public health policy development, analysis, and implementation. To ensure a diverse workgroup composition, nominees with front line and field experience at the local, state, tribal and territorial levels are encouraged to apply. This includes nominees with experience working for, and with, community-based organizations and other non-profit organizations. Federal employees will not be considered for membership. Selection of members is based on candidates' qualifications to contribute to the accomplishment of the HEW's objectives.

HHS policy stipulates that membership be balanced in terms of points of view represented and the workgroup's function. Appointments shall be made without discrimination based on age, race, ethnicity, gender, sexual orientation, gender identity, HIV status, disability, and cultural, religious, or socioeconomic status. Nominees must be U.S. citizens and cannot be full-time employees of the U.S. Government. Current participation on federal workgroups or prior experience serving on a federal advisory committee does not disqualify a candidate; however, HHS policy is to avoid excessive individual service on advisory committees and multiple committee memberships. Interested candidates should submit the following items:

A one-half to one-page cover letter that includes your understanding of, and commitment to, the time and work necessary; one to two sentences on your background and experience; and one to two sentences on the skills/perspective you would bring to the HEW.

Current curriculum vitae which highlights the experience and work history being sought relevant to the criteria set forth above, including complete contact information (telephone numbers, mailing address, email address).

Nominations may be submitted by the candidate him or herself, or by the person/organization recommending the candidate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-04690 Filed 3-4-22; 8:45 am]

BILLING CODE 4163-18-P